SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before January 26, 2010.

ADDRESSES: Send all comments regarding whether these information collections are necessary for the proper performance of the function of the agency, whether the burden estimates are accurate, and if there are ways to minimize the estimated burden and enhance the quality of the collection, to Sandy Johnston, Program Analyst, Office Financial Assistance, Small Business Administration, 409 3rd Street, 6th Floor, Washington, DC 20416.

FOR FURTHER INFORMATION CONTACT: Sandy Johnston, Program Analyst, 202-205-7528, sandra.johnston@sba.gov. Curtis B. Rich, Management Analyst, 202-205-7030, curtis.rich@sba.gov.

SUPPLEMENTARY INFORMATION: Section 7(a) of the Small Business Act (15 U.S.C.) subsection 626(a) authorizes the Small Business Administration to guaranty loans in the SBA Express and Pilot Loan Programs. The regulations covering these and other loan programs at 13 CFR part 120 require certain information from loan applicants and lenders. These forms are the means of collecting the information.

Title: “SBA Express and Pilot Loan Programs (Export Express, Community Express and Patriot Express).”

Description of Respondents: Small Business Clients.

Form Numbers: 1919, 1920SX, A, B, C, 2237, 2238.

Annual Responses: 98,200.

Annual Burden: 52,474.

SBA collects loan status information on all guaranteed loans all lenders with at least one guaranteed loan outstanding. The information is used to track lender portfolio performance and to model program subsidy rates.

Title: “Lenders Disbursement & Collection Report.”

Description of Respondents: Eligible Dealers associated with the Dealer floor plan.

Form Number: 1502R.

Annual Responses: 300.

Annual Burden: 140.

The seller of a loan or pool certificate must disclose the information on this form Including a constant annual prepayment rate based upon the seller's analysis of the prepayments histories of SBA guaranteed loans with similar maturities and additional disclosure information on the terms conditions and yield of the security.

Title: “Form of detached assignment for U.S. Small Business Administration Loan Pool or Guaranteed Interest Certificate.”

Description of Respondents: Secondary market participants.

Form Number: 1088.

Annual Responses: 6,500.

Annual Burden: 9,750.

FOR FURTHER INFORMATION CONTACT: Martin Gold, Deputy National Ombudsman, 202-205-7549, martin.gold@sba.gov. Curtis B. Rich, Management Analyst, 202-205-7030, curtis.rich@sba.gov.

SUPPLEMENTARY INFORMATION: The Small Business Regulatory Enforcement Fairness Act of 1966, 15 U.S.C. 657(b)(2)(B), requires the SBA National Ombudsman to establish a means for SBA to receive comments on regulatory and compliance actions. This one-page form covers any written narrative submitted by a small entity to explain disagreement with a Federal agency's action. The Ombudsman uses it to obtain the agency's response, encourage a fresh look by the agency at a high level, and build a more small business-friendly regulatory environment.

Title: “Federal Agency Comment Form.”

Description of Respondents: Small Business Owners and Farmers.

Form Number: 1993.

Annual Responses: 400.

Annual Burden: 300.

FOR FURTHER INFORMATION CONTACT: Rachel Newman Karton, Program Analyst, 202-619-1816, rachel.newman-karton@sba.gov. Curtis B. Rich, Management Analyst, 202-205-7030, curtis.rich@sba.gov.

SUPPLEMENTARY INFORMATION: The Small Business Development Centers (SBDC) must provide semi-annual financial and programmatic reports outlining accomplishments.

Title: “Federal Cash Transaction Report, Financial Status Report, Program Income Report, Narrative Program Report.”

Description of Respondents: SBDC Directors.

Form Number's: SF 269, SF 272, SBA Form 2113.

Annual Responses: 126.

Annual Burden: 8,568.

FOR FURTHER INFORMATION CONTACT: LeAnn Delaney, Deputy Associate Administrator for Business Development, 202-205-6731, leann.delaney@sba.gov. Curtis B. Rich, Management Analyst, 202-205-7030, curtis.rich@sba.gov.

SUPPLEMENTARY INFORMATION: Respondents are small businesses that are seeking 8(a) or Small Disadvantaged Business certification by the SBA. SBA uses the information collected to make a determination on the eligibility for certification of the applicant and/or their suitability to participate in the 8(a) Business Development Program.

Title: “Application for 8(a) Business Development (BD) and Small Disadvantage Business (SDB) Certification.”

Description of Respondents: Eligible Small Disadvantage Businesses & 8(a) businesses.

Form Number's: 1010, 1010-IND, 1010-AIT, 1010-ANC, 1010-CDC, 1010-NHO, 1010-REP, 1010-RECERT and 1010C.

Annual Responses: 9,971.

Annual Burden: 36,210.

Jacqueline White,
Chief, Administrative Information Branch.

[FR Doc. E9-28382 Filed 11-25-09; 8:45 am]

BILLING CODE 8025-01-P